DEPARTMENT OF COMMERCE

National Institute of Standards and Technology

Announcement of the American Petroleum Institute's Standards Activities

AGENCY: National Institute of Standards and Technology, Commerce.

ACTION: Notice of intent to develop or revise standards and request for public comment and participation in standards development.

SUMMARY: The American Petroleum Institute (API), with the assistance of other interested parties, continues to develop standards, both national and international, in several areas. This notice lists the standardization efforts currently being conducted by API committees. The publication of this notice by the National Institute of Standards and Technology (NIST) on behalf of API is being undertaken as a public service. NIST does not necessarily endorse, approve, or recommend the standards referenced.

ADDRESSES: American Petroleum Institute, 1220 L Street, NW., Washington, DC 20005; telephone (202) 682-8000, http://www.api.org.

FOR FURTHER INFORMATION CONTACT: All contact individuals listed in the supplementary information section of this notice may be reached at the American Petroleum Institute.

SUPPLEMENTARY INFORMATION:

Background

The American Petroleum Institute develops and publishes voluntary standards for equipment, materials, operations, and processes for the petroleum and natural gas industry. These standards are used by both private industry and by governmental agencies. All interested persons should contact the appropriate source as listed for further information.

Pipeline Committee

1165, 1st Edition: SCADA Display Standard

1110, 5th Edition: Pressure Testing of Liquid Petroleum Pipelines

For Further Information Contact: Andrea Johnson, Standards Department, e-mail: johnsona@api.org.

Committee on Marketing

RP 1550, 1st Edition: Recommended Practice for the Application of Aviation Fuel Filtration Systems

RP 1598, 1st Edition: Guidelines for the Selection of Electronic Sensors for Monitoring Aviation Fuel Quality

Spec 1599, 1st Edition: Specifications and Laboratory Tests for Aviation Fuel Filter Monitors Without Absorbent Type Elements

RP 1615, 6th Edition: Installation of Underground Petroleum Storage Systems

For Further Information Contact: David Soffrin, Standards Department, e-mail: soffrind@api.org.

Committee on Refining

Inspection

581, 2nd Edition: Base Resource Document—Risk Based Inspection

Above Ground Storage Tanks

650, 11th Edition: Welded Steel Tanks for Oil Storage

Electrical Equipment

500, 4th Edition: Recommended Practice for Classification of Locations for Electrical Installations at Petroleum Facilities as Classified as Class I, Division 1 and Division 2

505, 3rd Edition: Recommended Practice for Classification of Locations for Electrical Installations at Petroleum Facilities Classified as Class I, Zone 0, Zone 1 and Zone 2

Mechanical Equipment

611, 6th Edition: General-purpose Steam Turbines for Petroleum, Chemical, and Gas Industry Services

618, 6th Edition: Reciprocating Compressors for Petroleum, Chemical and Gas Industry Services

671, 5th Edition: Special Purpose Couplings for Petroleum, Chemical, and Gas Industry Services

674, 4th Edition: Positive Displacement Pumps—Reciprocating

689, (National Adoption of 14224) 1st Edition: Petroleum, petrochemical and natural gas industries—Collection and exchange of reliability and maintenance data for equipment

Heat Transfer Equipment

534, 3rd Edition: Heat Recovery Steam Generators

536, 3rd Edition: Post Combustion NOX Control for Equipment in General Refinery Services

546, 3rd Edition: Brushless Synchronous Machines—500kVA and Larger

560, 4th Edition: Fired Heaters for General Refinery Services

Piping & Valves

599, 6th Edition: Metal Plug Valves—Flanged and Welding Ends

Pressure Relieving Systems

520 Part 1, 8th Edition: Sizing, Selection and Installation of Pressure-relieving Devices in Refineries, Part 1—Sizing and Selection

526, 6th Edition: Flanged Steel Pressure Relief Valves

Instrument & Control Systems

552, 2nd Edition: Transmission Systems

554, 3rd Edition: Process Instrumentation and Control

556, 2nd Edition: Fired Heaters & Steam Generators

Corrosion & Materials

RP 934-A, 2nd Edition: Fabrication Requirements for 2-1/4/3Cr Alloy Steel Heavy Wall Pressure Vessels for High Temperature, High Pressure Hydrogen Service

938-B, 1st Edition: Title to be Determined

RP 941, 7th Edition: Steels for Hydrogen Service at Elevated Temperatures and Pressures in Petroleum Refineries and Petrochemical Plants

Fitness-for-Service

579, 3rd Edition: Fitness-for-Service

For Further Information Contact: David Soffrin, Standards Department, e-mail: soffrind@api.org.

Meetings/Conferences: The Spring Refining Meeting will be held in Seattle, Washington, April 16-18, 2007. The Fall Refining Meeting will be held in San Antonio, TX, November 12-14, 2007. Interested parties may visit the API Web site at http://www.api.org/meetings/ for more information regarding participation in these meetings.

Committee on Safety and Fire Protection

2003, 7th Edition: Protection Against Ignitions Arising Out of Static, Lightning, and Stray Currents

2027, 4th Edition: Ignition Hazards Involved in Abrasive Blasting of Atmospheric Storage Tanks in Hydrocarbon Service

2028, 4th Edition: Flame Arresters in Piping Systems

2207, 6th Edition: Preparing Tank Bottoms for Hot Work

2210, 4th Edition: Flame Arresters for Vents of Tanks Storing Petroleum Products

2218, 3rd Edition: Fireproofing Practices in Petroleum and Petrochemical Processing Plants

2250, 4th Edition: Overfill Protection for Storage Tanks in Petroleum Facilities

752, 3rd Edition: Management of Hazards Associated with Location of Process Plant Buildings

753, 1st Edition: Management of Hazards Associated with Location of Process Plant Portable Buildings

For Further Information Contact: David Soffrin, Standards Department, e-mail: soffrind@api.org.

Committee on Petroleum Measurement

Manual of Petroleum Measurement Standards

Liquid Measurement

Chapter 4.5, 3rd Edition: Master-meter Provers

Chapter 4.9.4, 1st Edition: Determination of the Volume of Displacement and Tank Provers by the Gravimetric Method of Calibration

Chapter 5.1, 4th Edition: General Consideration for Measurement by Meters

Chapter 6.4, 2nd Edition: Metering Systems for Aviation Fueling Facilities

Chapter 12 A, 1st Edition: Addendum to Calculation of Petroleum Quantities

Measurement Quality

Chapter 10.2, 2nd Edition: Determination of Water in Crude Oil by Distillation

Chapter 10.3, 3rd Edition: Determination of Water and Sediment in Crude Oil by the Centrifuge Method (Laboratory Procedure)

Chapter 11.1 A, 1st Edition: Addendum to Temperature and Pressure Volume Correction Factors for Generalized Crude Oils, Refined Products, and Lubricating Oils

Chapter 11.2.4/GPA TP-27, 1st Edition: Temperature Correction for NGL & LPG—Tables 23E, 24E, 53E, 54E, 59E, 60E

Chapter 11.2.5/GPA TP-15, 1st Edition: A Simplified Vapor Pressure Correlation for Commercial NGLs

Chapter 11.5.1, 1st Edition: Density/Weight/Volume Intraconversion Tables, Entry with API Gravity at 60 °F

Chapter 11.5.2, 1st Edition: Density/Weight/Volume Intraconversion Tables, Entry with Relative Density at 60 °F

Chapter 11.5.3, 1st Edition: Density/Weight/Volume Intraconversion Tables, Entry with Absolute Density at 15 °F

Gas Fluids Measurement

Draft Standard, 1st Edition: Vortex Shedding Flowmeters for Custody Transfer—Joint with Liquid Measurement

Chapter 14.10, 1st Edition: Flare Gas Meter

Evaporative Loss Estimation

Publication 2514A, 4th Edition: Atmospheric Hydrocarbon Emissions from Marine Vessel Transfer Operations

TR 2XXX, 1st Edition: Evaporative Loss from Cleaning of Storage Tanks

For Further Information Contact: Andrea Johnson, Standards Department, e-mail: johnsona@api.org.

Meetings/Conferences: The Spring Committee on Petroleum Measurement meeting will be held in Dallas, Texas, March 19-23, 2007. The Fall Committee on Petroleum Measurement meeting will be held in Atlanta, Georgia, October 22-25, 2007. Interested parties may visit the API Web site at http://www.api.org/meetings/ for more information regarding participation in these meetings.

Committee on Exploration and Production

RP 65-2, 1st Edition: Isolating Potential Flow Zones During Well Construction

Production Equipment

Spec 6A-A1, 19th Edition: Addendum to Specification for Wellhead and Christmas Tree Equipment

Spec 6DSS, 1st Edition: Specification for Subsea Pipeline Valves

Oil Country Tubular Goods

Spec 5B, 16th Edition: Treading, Gauging, and Thread Inspection of Casing, Tubing, and Line Pipe Threads

Bull 5C3, (National Adoption of TR 10400) 7th Edition: Formulas and Calculations for Casing, Tubing, Drill Pipe, and Line Pipe Properties

Spec 5CRA, 1st Edition: Petroleum and natural gas industries—Corrosion-resistant alloy seamless tubes for use as casing, tubing and coupling stock—Technical delivery conditions

Spec 5D, (National Adoption of 11961) 6th Edition: Drill Pipe

Spec 5L, 43rd Edition: Line Pipe

Spec 5LD, 3rd Edition: CRA Clad or Lined Steel Pipe

Spec 7-1A (National Adoption of 10424-1), 1st Edition: Addendum 1—Rotary Drill Stem Elements

Spec 7-2, (National Adoption of 10424-2) 1st Edition: Petroleum and natural gas industries—Rotary drilling equipment—Part 2: Threading and gauging of rotary shouldered threaded connections

Spec 15LE, 4th Edition: Polyethylene (PE) Line Pipe

RP 15XXX, 1st Edition: Recommended Practice on Composite Lined Steel Tubular Goods

Offshore Structures, Drill Through Equipment, and Subsea Production Equipment

RP 2A-WSD E/A3, 21st Edition: Errata/Supplement 3 to Planning, Designing and Constructing Fixed Offshore Platforms—Working Stress Design

RP 2D, 6th Edition: Operation and Maintenance of Offshore Cranes

RP 2FPS, (National Adoption of 19904-1) 2nd Edition: Recommended Practice for Planning, Designing, and Constructing Floating Production Systems

RP 2I, 3rd Edition: In-Service Inspection of Mooring Hardware for Floating Drilling Units Bull 2IDC, 1st Edition: Interim Design Criteria for Offshore Structures

RP 2L, 5th Edition: Planning, Designing and Constructing Heliports for Fixed Offshore Platforms

Draft RP 2MET, 1st Edition: Metocean Conditions for the Gulf of Mexico

RP 2SK-A1, 3rd Edition: Addendum 1 to Design and Analysis of Stationkeeping Systems for Floating Structures

RP 2T, 3rd Edition: Planning, Designing and Constructing Tension Leg Platforms

Bull 2TD, 2nd Edition: Guidelines for Tie-downs on Offshore Production Facilities for Hurricane Season

RP 2X-A, 4th Edition: Addendum to Recommended Practice for Ultrasonic and Magnetic Examination of Offshore Structural Fabrication and Guidelines for Qualification of Technicians

RP 17A-A (National Adoption of 13628-1), 4th Edition: Addendum to Design and Operation of Subsea Production Systems—Petroleum and natural gas industries—Design and operation of Subsea production systems—Part 1: General requirements and recommendations

Spec 17J, 3rd Edition: Unbonded Flexible Pipe

Drilling Operations and Equipment

Spec 4F, (National Adoption of 13626) 4th Edition: Drilling and production equipment—Drilling and well-servicing structures

RP 16ST, 1st Edition: Recommended Practice for Coiled Tubing Well Control Equipment Systems and Operations

Spec 19XXX, 1st Edition (National Adoption of 13503-2): Petroleum and natural gas industries—Completion fluids and materials—Part 2: Measurement of properties of proppants used in hydraulic fracturing and gravel-packing operations

Quality

Spec Q1, 8th Edition: Specification for Quality Programs for the Petroleum and Natural Gas Industry

Supply Chain Management

Spec 20A, 1st Edition: Forgings

For Further Information Contact: Andy Radford, Standards Department, e-mail: radforda@api.org.

Meetings/Conferences: The 2007 Summer Standardization Conference on Oilfield Equipment & Materials will take place in San Francisco, California, June 25-29, 2007. Interested parties may visit the API Web site at http://www.api.org/meetings for more information regarding participation in this meeting.

Executive Committee on Drilling and Production Operations

RP 14G, 4th Edition: Fire Prevention and Control on OpenType Offshore Production Platforms

RP 67, 2nd Edition: Oilfield Explosive Safety

RP 91, 1st Edition: Containment of Spent Blast Abrasive and Associated Materials from Surface Preparation and Coating Operations

For Further Information Contact: Tim Sampson, Upstream Department, e-mail: sampson@api.org.

For additional information on the overall API standards program, Contact: David Miller, Standards Department, e-mail: miller@api.org.

Dated: February 13, 2007.
James E. Hill,
Acting Deputy Director.

[FR Doc. E7-2889 Filed 2-20-07; 8:45 am]

BILLING CODE 3510-13-P